DEPARTMENT OF DEFENSE

Department of the Army

[Docket ID: USA-2022-HQ-0006]

Submission for OMB Review; Comment Request

AGENCY: Department of the Army, Department of Defense (DoD).

ACTION: 30-Day information collection notice.

SUMMARY: The DoD has submitted to OMB for clearance the following proposal for collection of information under the provisions of the Paperwork Reduction Act.

DATES: Consideration will be given to all comments received by September 29, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Exchange Credit Program; CRC 7429395; OMB Control Number 0702-0137.

Type of Request: Revision.

Number of Respondents: 869,231.

Responses per Respondent: 1.

Annual Responses: 869,231.

Average Burden per Response: 2 minutes.

Annual Burden Hours: 28,975.

Needs and Uses: The information collection is the basis for determining Exchange patron credit eligibility, enhancing the patron's shopping experience, determining the patron's suitability to cash checks at Exchange facilities, and collecting government debts. Allowing patrons to use credit in their shopping experience supports the efficiency and effectiveness of the Exchange's marketing programs and the mission to support the Army's Family and Morale, Welfare and Recreation Programs. Authorized patrons include individuals who are members of the uniformed services, retired members, authorized veterans, and dependents of members of the Armed Forces, commissioned officers of the Public Health Service, and commissioned officers of the National Oceanic and Atmospheric Administration. Other individuals may meet the requirements of being patrons as mandated by regulation. The Exchange offers “personal credit” accounts to service members for purchases of military clothing and to all authorized patrons a private label Military Star credit card for retail purchases. Patrons deciding to apply for credit may voluntarily complete the application form online, through a local Exchange facility by completing the Exchange paper form CRC 7429395 “Military Star Credit Paper Application”, or by supplying information to an authorized Exchange cashier at the Point of Sale. Account holders requesting to update information on their account may do so electronically by visiting https://www.myecp.com/, or by contacting the Exchange MILITARY STAR department at 1-877-891-7827. Information collected from the patron allows the Exchange to address their credit worthiness, and supply monthly statements and debt communication, to include wage garnishments.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: August 24, 2022.
Aaron T. Siegel,
Alternate OSD Federal Register Liaison Officer, Department of Defense.

[FR Doc. 2022-18609 Filed 8-29-22; 8:45 am]

BILLING CODE 5001-06-P